DEPARTMENT OF ENERGY

Federal Energy Regulatory Commission

Combined Notice of Filings #1

Take notice that the Commission received the following electric rate filings:

Docket Numbers: ER17-742-001; ER10-1342-004; ER10-1886-007.

Applicants: CP Bloom Wind LLC, CP Energy Marketing (US) Inc., Decatur Energy Center, LLC.

Description: Notice of Change in Status and Limited Request for Privileged Treatment of CP Bloom Wind LLC, et al.

Filed Date: 7/12/17.

Accession Number: 20170712-5200.

Comments Due: 5 p.m. ET 8/2/17.

Docket Numbers: ER17-1780-001.

Applicants: Midcontinent Independent System Operator, Inc.

Description: Tariff Amendment: 2017-07-12 SA 1677 Illinois Power-Ameren Substitute Amended GIA to be effective 5/25/2017.

Filed Date: 7/12/17.

Accession Number: 20170712-5178.

Comments Due: 5 p.m. ET 8/2/17.

Docket Numbers: ER17-2084-000.

Applicants: Great Bay Solar 1, LLC.

Description: Baseline eTariff Filing: Application for Market-Based Tariff and Waivers to be effective 8/29/2017.

Filed Date: 7/12/17.

Accession Number: 20170712-5195.

Comments Due: 5 p.m. ET 8/2/17.

Docket Numbers: ER17-2085-000.

Applicants: Alliant Energy Corporate Services, Inc.

Description: § 205(d) Rate Filing: AECS Updated Schedule 2 (Reactive Power) to be effective 9/1/2017.

Filed Date: 7/12/17.

Accession Number: 20170712-5198.

Comments Due: 5 p.m. ET 8/2/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 13, 2017.
Nathaniel J. Davis, Sr.,
Deputy Secretary.

[FR Doc. 2017-15094 Filed 7-18-17; 8:45 am]

BILLING CODE 6717-01-P